NUCLEAR REGULATORY COMMISSION

[Docket No. 72-26; NRC-2024-0185]

Pacific Gas and Electric Company; Diablo Canyon Independent Spent Fuel Storage Installation; Environmental Assessment and Finding of No Significant Impact

AGENCY: Nuclear Regulatory Commission.

ACTION: Notice; issuance.

SUMMARY: The U.S. Nuclear Regulatory Commission (NRC) is considering the renewal of Special Nuclear Materials (SNM) License No. SNM-2511 for the Diablo Canyon (DC) Independent Spent Fuel Storage Installation (ISFSI) located in San Luis Obispo County, California. If approved, under the renewed license SNM-2511, Pacific Gas and Electric Company (PG&E) will be able to continue to operate the DC ISFSI for an additional 40 years. The NRC staff has prepared an environmental assessment (EA) for this proposed license renewal in accordance with its regulations. Based on the EA, the NRC has concluded that a finding of no significant impact (FONSI) is appropriate. Therefore, in accordance with NRC regulations, preparation of an environmental impact statement (EIS) is not warranted for the proposed action. The NRC staff also is conducting a safety evaluation of the proposed license renewal.

DATES: The EA and FONSI referenced in this document are available on November 12, 2024.

ADDRESSES: Please refer to Docket ID NRC-2024-0185 when contacting the NRC about the availability of information regarding this document. You may obtain publicly available information related to this document using any of the following methods:

• Federal Rulemaking Website: Go to https://www.regulations.gov and search for Docket ID NRC-2024-0185. Address questions about Docket IDs to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced in this document (if it is available in ADAMS) is provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Isaac Johnston, Office of Nuclear Material Safety and Safeguards, U.S. Nuclear Regulatory Commission, Washington, DC 20555-0001; telephone: 301-415-5649, email: Isaac.Johnston@nrc.gov.

SUPPLEMENTARY INFORMATION:

I. Introduction

The NRC is considering a request from PG&E to renew license SNM-2511 for the DC specifically-licensed ISFSI located in San Luis Obispo County, California. PG&E is requesting to renew license SNM-2511 for the DC ISFSI for an additional 40-year period. The current license expiration date was March 22, 2024, and PG&E submitted the license renewal application in accordance with paragraphs 72.42(b) and (c) of title 10 of the Code of Federal Regulations (10 CFR). Accordingly, the license is in timely renewal. If approved, PG&E would be able to continue to possess and store spent nuclear fuel at the DC ISFSI in accordance with the requirements in 10 CFR part 72, “Licensing Requirements for the Independent Storage of Spent Nuclear Fuel, High-Level Radioactive Waste, and Reactor-Related Greater than Class C Waste” for an additional 40 years.

The NRC staff has prepared an EA as part of its review of this license renewal request in accordance with the requirements of 10 CFR part 51, “Environmental Protection Regulations for Domestic Licensing and Related Regulatory Functions.” Based on the EA, the NRC staff has determined that an EIS is not required for this proposed action and a FONSI is appropriate. The NRC staff is also conducting a safety evaluation of the proposed license renewal request pursuant to 10 CFR part 72 and the results will be documented in a separate Safety Evaluation Report (SER).

II. Summary of Environmental Assessment

Description of the Proposed Action

The proposed action is the review and approval, if appropriate, of PG&E's request to renew the SNM-2511 license for the DC specifically-licensed ISFSI for a 40-year period. The ISFSI consists of storage pads, a cask transfer facility, an onsite cask transporter, and the Holtec International HI-STORM™ 100 dry cask storage system. License SNM-2511 allows PG&E to use four different multipurpose canisters (MPC), which are part of HI-STORM™ 100 System, to store the spent nuclear fuel from the Diablo Canyon Power Plant (DCPP). Currently, only the MPC-32 is in use at the DC ISFSI.

Purpose and Need for the Proposed Action

The purpose and need for the proposed action is to provide an option for continued temporary dry storage of spent nuclear fuel generated by operations of two nuclear power generating units (Units 1 and 2) at the DCPP. This dry storage option would be needed until an interim or a permanent facility (or facilities) is available for offsite disposition of the spent nuclear fuel.

The DC ISFSI was constructed to store spent nuclear fuel associated with DCPP Units 1 and 2 through the current operating licenses, which expire in November 2024 and August 2025, respectively. License SNM-2511 currently allows PG&E to store up to 4,400 spent nuclear fuel assemblies in up to 140 HI-STORM™ 100SA overpacks at the DC ISFSI. This is sufficient space for all spent nuclear fuel that would be generated by Units 1 and 2 through their current license terms. However, this approved amount of storage does not include any fuel that would be generated by Units 1 and 2 beyond their current license terms. The DCPP is currently in timely renewal and would operate past the current license term dates while the NRC considers PG&E's DCPP license renewal request. Regardless of the NRC's ultimate decision on the DCPP license renewal request, the storage capacity of the DC ISFSI would not change unless PG&E applied for a license amendment to increase the capacity of the DC ISFSI, and the NRC approved the request.

Environmental Impacts of the Proposed Action and Agencies and Persons Consulted

The NRC staff has assessed the potential environmental impacts of the proposed action. The results of the NRC's environmental review can be found in the EA. The NRC staff performed its environmental review in accordance with the requirements in 10 CFR part 51. In conducting the environmental review, the NRC considered information in the license renewal application; communications and consultation with the California State Historic Preservation Office (CA SHPO); the Santa Ynez Chumash Indians; Tule River Tribe; Yak Titʸu Titʸu Yak Tiłhini Northern Chumash Indians; the Northern Chumash Tribal Council; the Coastal Band of Chumash Indians; the San Luis Obispo County Chumash Indians; the Salian Tribe of Montgomery, San Luis Obispo; and the Sacramento Field Office of the U.S. Fish and Wildlife Service (FWS).

Approval of PG&E's proposed license renewal request would allow PG&E to continue to utilize the HI-STORM™ 100SA overpack to store spent fuel from the PG&E DCPP in the DC ISFSI for an additional 40 years.

In its license renewal request, PG&E is proposing no changes in how it handles or stores spent fuel at the DC ISFSI. Approval of the proposed action would not result in any new construction or expansion of the existing DC ISFSI footprint beyond that previously approved. The DC ISFSI is a largely passive facility that produces no liquid or gaseous effluents. No significant radiological or non-radiological impacts are expected from continued normal operations. Occupational dose estimates associated with the proposed action and continued operation and maintenance of the DC ISFSI are expected to be at as low as is reasonably achievable (ALARA) levels and within the limits of 10 CFR 20.1201 and 10 CFR 72.104(a).

Specifically, PG&E's estimated annual dose to the nearest potential member of the public from DC ISFSI activities is 179 micro-Sieverts per year (µSv/yr) (17.9 millirems per year [mrem/yr]), which is below the 0.25 mSv/yr (25 mrem/yr) limit specified in 10 CFR 72.104(a) and the 1 mSv/yr (100 mrem/yr) limit in 10 CFR 20.1301(a)(1). Furthermore, PG&E maintains a radiation protection program for the DC ISFSI in accordance with 10 CFR part 20, “Standards for Protection against Radiation,” to ensure that radiation doses are ALARA. Accordingly, no significant radiological or non-radiological impacts are expected to result from approval of the license renewal request, and the proposed action would not significantly contribute to cumulative impacts at the DC site. Additionally, there would be no disproportionately high and adverse impacts on minority and low-income populations.

Furthermore, the NRC staff determined that this license renewal request would have no effect on historic properties present consistent with 36 CFR 800.4(d)(1). As discussed in Section 3.8.1 of the EA, there are no known historic or cultural properties within the DC ISFSI direct area of potential effects (APE). There are several historic properties within the indirect APE. PG&E has no plans for construction activities within the DC ISFSI that would result in land disturbances that have not been evaluated. The DC ISFSI does not generate any liquid or gaseous effluents and the cask is a passive system designed to limit exposure to radiation. Transportation of the casks from the DCPP to the DC ISFSI would not affect any historic and cultural resources.

The NRC staff reached out to and informed the CA SHPO via letter dated November 15, 2023, the Santa Ynez Chumash Indians, Tule River Tribe, Yak Titʸu Titʸu Yak Tiłhini Northern Chumash Indians, the Northern Chumash Tribal Council, the Coastal Band of Chumash Indians, the San Luis Obispo County Chumash Indians, and the Salian Tribe of Montgomery, San Luis Obispo Native American Tribes via letters dated November 27 and 28, 2023, of the license renewal request (the undertaking) and sought input from them. Subsequently, on June 14, 2024, the NRC staff informed the CA SHPO of the results of identification and evaluation for consultation pursuant to section 106 of the National Historic Preservation Act (NHPA), consistent with 36 CFR 800.4(d)(1)(i). Additionally, the NRC staff provided copies of this determination letter to all consulting parties. To date, the NRC has received no response from the CA SHPO or any consulting parties. Further, on September 13, 2024, the NRC staff published the evaluation and results of effects to historic properties in the NRC website for public review and comment. The public comment period closed on October 15, 2024. The NRC staff received no comments from the public.

The NRC staff determined the proposed action “may affect but is not likely to adversely affect” the California red-legged frog and California condor. The NRC staff evaluated the potential for the license renewal to result in the injury or mortality of California red-legged frogs from vehicle collision and determined that PG&E's adherence to conservation measures, including limiting vehicle speeds and stopping work when a frog is observed, would reduce the likelihood of injury or mortality of California red-legged frogs during the proposed license renewal term such that, based on the NRC staff's best judgement, injury or mortality is extremely unlikely to occur. Accordingly, this represents a discountable effect. The NRC staff evaluated the potential for the California condor to be affected by consuming unfit material left out during DC ISFSI operations, vehicle collisions, and noise. The NRC staff determined these impacts to also be extremely unlikely to occur and discountable. The proposed action would have “no effect” on all other Federally listed species. No critical habitat occurs in the action area. The NRC staff is consulting with the FWS in accordance with Section 7 of the Endangered Species Act to address the DC ISFSI and DCPP license renewal applications concurrently. That consultation is ongoing and may result in additional requirements to ensure the protection of the California red legged frog, California condor, or other species the FWS determines may be affected by the continued operation of the DC ISFSI.

Additionally, on September 5, 2024, the NRC staff provided a copy of the draft EA to the California Department of Public Health for its review and comment. In a letter dated October 8, 2024, the State responded that they had no comments on the draft EA.

Environmental Impacts of the Alternatives to the Proposed Action

The NRC staff also assessed the potential environmental impacts of alternatives to the proposed action, including renewal of the license for a 20-year term, shipment of spent fuel to an offsite facility, and the no-action alternative.

The environmental impacts of a 20-year license renewal term would not be significantly different than environmental impacts for the proposed action because site operations and maintenance activities would be the same.

Shipment of the spent nuclear fuel to a commercial reprocessing facility, Federal repository, or interim storage facility is not a reasonable alternative, because these facilities currently do not exist in the United States.

The no-action alternative would consist of the NRC's denial of PG&E's request to renew DC ISFSI license SNM-2511. The license, however, would continue to be in effect with respect to possession of licensed material per 10 CFR 72.54(c) until the NRC notifies the licensee in writing that the license is terminated. PG&E would continue to maintain the stored spent nuclear fuel at the ISFSI in a safe and secure condition. Although the license would continue in effect, PG&E would not be able to place additional casks on the ISFSI storage pad. If PG&E does not pursue other alternatives, reactor operations could cease once the spent nuclear fuel pool reaches its licensed capacity.

III. Finding of No Significant Impact

In accordance with the requirements in 10 CFR part 51, the NRC staff has concluded that the proposed action will not significantly affect the quality of the human environment. Therefore, the NRC staff has determined, pursuant to 10 CFR 51.31, that preparation of an EIS is not required for the proposed action and, and pursuant to 10 CFR 51.32, a FONSI is appropriate. Consistent with 10 CFR 51.32(a)(4), this FONSI incorporates the EA set forth in this notice by reference.

IV. Availability of Documents

The documents identified in the following table are available to interested persons through ADAMS, as indicated.

Document description | ADAMS accession No.
PG&E's License Renewal Application (LRA) for the Diablo Canyon (DC) Independent Spent Fuel Storage Installation (ISFSI), dated March 9, 2022 | ML22068A189.
NRC's Request for Additional Information (RAI), Round 1, dated July 31, 2023 | ML23159A236 (Package).
PG&E's Response to NRC's RAI, Round 1, dated September 21, 2023 | ML23264A859.
NRC Letter to CA SHPO Notification and Request for Section 106 Consultation, dated November 15, 2023 | ML23296A098.
NRC Tribal Letters for DC ISFSI LRA | ML24163A296 (Package).
NRC's RAI, Round 2, dated March 20, 2024 | ML24065A123 (Package).
PG&E's Response to RAI, Round 2, dated April 30, 2024 | ML24121A179.
NRC Letter to CA SHPO with results of identification and evaluation for NHPA Section 106, dated June 14, 2024 | ML24129A176.
NRC email to California Department of Public Health (CDPH) “Diablo Canyon Independent Spent Fuel Storage Installation License Renewal Environmental Assessment,” dated September 5, 2024 | ML24291A132.
California CDPH Response Email, “Email—Diablo Canyon Independent Spent Fuel Storage Installation License Renewal Environmental Assessment,” dated October 8, 2024 | ML24285A190.
Diablo Canyon ISFSI License Renewal Environmental Assessment | ML24296A038.

Dated: November 5, 2024.
For the Nuclear Regulatory Commission.
Robert Sun,
Chief, Environmental Project Management Branch 2, Division of Rulemaking, Environment, and Financial Support, Office of Nuclear Material Safety and Safeguards.

[FR Doc. 2024-26107 Filed 11-8-24; 8:45 am]

BILLING CODE 7590-01-P